DEPARTMENT OF COMMERCE

International Trade Administration

[A-580-807]

Polyethylene Terephthalate Film, Sheet and Strip From the Republic of Korea, Initiation and Preliminary Results of Changed Circumstances Antidumping Duty Administrative Review

AGENCY: Import Administration, International Trade Administration, Department of Commerce.

ACTION: Notice of initiation and preliminary results of changed circumstances antidumping duty administrative review.

SUMMARY: The Department of Commerce (the Department) has received information sufficient to warrant initiation of a changed circumstances administrative review of the antidumping duty order on polyethylene terephthalate film, sheet, and strip from Korea (56 FR 25669 (June 5, 1991)). On July 5, 1996, the order was revoked, in part, with respect to Cheil Synthetics, Inc. (Cheil) based on three consecutive years of no dumping. (See Polyethylene Terephthalate Film, Sheet, and Strip from the Republic of Korea; Final Results of Antidumping Duty Administrative Reviews and Notice of Revocation in Part, 61 FR 35177 (July 5, 1996).) On January 26, 1998, the Department determined that Saehan Industries, Inc. (Saehan) was the successor-in-interest to Cheil, and that the Department's partial revocation with respect to Cheil applied to Saehan (63 FR 3703). On January 5, 2000, Toray Saehan Inc. (TSI) requested that the Department determine that TSI is the successor to Saehan, based upon TSI assuming Saehan's PET film business. Based on the information provided in TSI's January 5, 2000, letter and supplemental documentation provided on February 14, 2000, we preliminarily determine that TSI is the successor firm to Saehan. If these preliminary results are confirmed in the final results of review, the Department's application of the July 5, 1996, partial revocation of the order with respect to Saehan, as the successor-in-interest to Cheil, will apply to TSI.

Interested parties are invited to comment on these preliminary results.

EFFECTIVE DATE: March 7, 2000.

FOR FURTHER INFORMATION CONTACT: Michael J. Heaney at (202) 482-4475 or Robert James at (202) 482-0649, AD/CVD Enforcement Office Eight, Import Administration, International Trade Administration, U.S. Department of Commerce, 14th Street and Constitution Avenue, NW, Washington, DC 20230.

The Applicable Statute and Regulations

Unless otherwise indicated, all citations to the statute are references to the provisions effective January 1, 1995, the effective date of the amendments made to the Tariff Act of 1930 (the Act) by the Uruguay Round Agreements Act. In addition, unless otherwise indicated, all citations to the Department's regulations are to the regulations codified at 19 CFR part 351 (1999).

SUPPLEMENTARY INFORMATION:

Background

On January 4, 2000, TSI requested that the Department conduct a changed circumstances administrative review pursuant to section 751(b) of the Act to determine whether TSI should properly be considered the successor firm to Saehan and if, as such, the revocation that is applicable to Saehan should apply to TSI. TSI also requested the Department to publish the preliminary results concurrently with this notice of initiation, pursuant to 19 CFR 351.221(c)(3)(ii). In its request, TSI notified the Department that it was established on October 15, 1999, and commenced operations on December 1, 1999. TSI is a joint venture between Saehan and Toray Industries, Inc. of Japan. TSI indicated that the management, production facilities, supplier relationships, and customers base of TSI are virtually identical to those of Saehan, the company which the Department has determined to be the successor to Cheil. On February 4, 2000, the Department requested that TSI provide documentary evidence supporting its successor-in-interest claim. On February 14, 2000, TSI submitted documentary evidence demonstrating that TSI maintained essentially the same management, production facilities, suppliers, and customer relationships as TSI. (See TSI February 14, 2000, Response to the Department's Request for Additional Information.) Citing the Department's determinations in Industrial Phosphoric Acid from Israel; Preliminary Results of Antidumping Duty Changed Circumstances Review, 58 FR 59010 (Nov. 5, 1993), Certain Hot Rolled Lead and Bismuth Carbon Steel Products from the United Kingdom, 64 FR 53994, 53955 (Oct. 5, 1999) and Brass Sheet and Strip from Canada, 57 FR 5128, 5129 (February 12, 1992), TSI claimed that the Department should determine that it is the successor-in-interest to Saehan, and that the revocation applicable to Saehan should apply to TSI. On January 20, 2000, we received a letter from E.I. DuPont de Nemours & Company and Mitsubishi Polyester Films, L.L.C., the petitioners in this case. Petitioners took no position concerning TSI's contention that it is the successor company to Saehan. Petitioners contend, however, that if the Department determines that TSI is the successor to Saehan, it should require TSI to fully comply with the conditions of the partial revocation applicable to Saehan.

Scope of the Review

The merchandise subject to this antidumping duty order are shipments of all gauges of raw, pretreated, or primed polyethylene terephthalate film, sheet, and strip, whether extruded or coextrued. The films excluded from this antidumping duty order are metallized films, and other finished films that have had at least one of their surfaces modified by the application of a performance-enhancing resinous or inorganic layer of more than 0.00001 inches (0.254 micrometers) thick. Roller transport cleaning film which has at least one of its surfaces modified by the application of 0.5 micrometers of SBR latex has also been ruled as not within the scope of the order.

PET film is currently classifiable under Harmonized Tariff Schedule of the United States subheading 3920.62.00.00. The HTS subheading is provided for convenience and customs purposes. The written description of the scope of this order is dispositive.

This changed circumstances administrative review covers TSI.

Initiation and Preliminary Results of Changed Circmstances Antidumping Duty Administrative Review

In accordance with section 751(b) of the Act, the Department is initiating a changed circumstances administrative review to determine whether TSI is the successor company to Saehan. In making such a determination, the Department examines several factors including, but not limited to, changes in (1) management, (2) production facilities, (3) supplier relationships, and (4) customers base. See e.g., Brass Sheet and Strip from Canada; Final Results of Antidumping Duty Administrative Review, 57 FR 20460 (May 13, 1992). While no one or several of these factors will necessarily provide a dispositive indication, the Department will generally consider the new company to be the successor to the previous company if its resulting operation is similar to that of the predecessor. See e.g., Industrial Phosphoric Acid from Israel, Final Results of Changed Circumstances Review, 59 FR 6944, 6945 (February 14, 1994). Thus, if evidence demonstrates that, with respect to the production and sale of the subject merchandise, the new company operates as the same entity as the former company, the Department will treat the successor company the same as the predecessor for purposes of antidumping liability, e.g., assign the same cash deposit rate, revocation, etc. (See id.)

We examined the information provided by TSI in its January 5, and February 14, 2000, letters and have determined that TSI has established a prima facie case that it is the successor-in-interest to Saehan, which the Department has determined to be the successor-in-interest to Cheil. A majority of the senior managers involved in the day-to-day production and sales operation of TSI are the same as those that managed Saehan. Therefore, the management and organizational structure of Saehan has remained intact under TSI. In addition, there have been no changes in the production facilities, inputs and supplier relationships, or customer base. Because we find that TSI has maintained the same management, production facilities, supplier relationships, and customer bases as Saehan, we preliminarily determine that TSI operates as essentially the same business entity as Saehan with respect to the production and sale of the subject merchandise. Based upon the foregoing, we preliminary determine that the July 5, 1996, partial revocation issued with respect to Cheil, and applied to Saehan, Cheil's successor company, applies to TSI as Saehan's successor-in-interest.

Because TSI has presented evidence to establish a prima facie case of its successorship status, we find it appropriate to issue the preliminary results in combination with the notice of initiation in accordance with 19 CFR 351.221(c)(3)(ii). We agree with petitioners that TSI must fully comply with the terms of the revocation applicable to Saehan; therefore, we have requested and received written confirmation from TSI that it will adhere to the terms of the revocation applicable to Cheil, and applied to Saehan, Cheil's successor-in-interest. (See TSI February 14, 2000, Response to the Department's Request for Additional Information, at Appendix F).

Interested parties may submit case briefs and/or written comments no later than 30 days after the date of publication of these preliminary results. Rebuttal briefs and rebuttals to written comments, limited to issues raised in such briefs or comments, may be filed no later than 5 days after the deadline for case briefs. The Department will publish the final results of this changed circumstances review, which will include the results of its analysis to issues raised in any such written comments, no later than four months following the date of publication of this notice. This initiation of review and notice are in accordance with section 751(b) of the Act, as amended (19 U.S.C. 1675(b)), and 19 CFR 351.216.

Dated: March 1, 2000.
Joseph A. Spetrini,
Acting Assistant Secretary for Import Administration.

[FR Doc. 00-5515 Filed 3-6-00; 8:45 am]

BILLING CODE 3510-DS-M